DEPARTMENT OF TRANSPORTATION

Federal Aviation Administration

Public Notice for Waiver of Aeronautical Land-Use Assurance

AGENCY: Federal Aviation Administration, DOT

ACTION: Notice of intent of waiver with respect to land; John Glenn Columbus International Airport; Columbus, Ohio.

SUMMARY: The Federal Aviation Administration (FAA) is considering a proposal to change 8.313 acres of airport land from aeronautical to non-aeronautical use and to authorize the lease of airport property located at John Glenn Columbus International Airport, Columbus, Ohio. The aforementioned land is not needed for aeronautical use.

The subject property is located along the northern property boundary of the airport; north of Bridgeway Avenue. The parcel is currently vacant. The parcel presently serves the primary purpose of compatible land use. The parcel will continue to serve in this same capacity with a proposed change to nonaeronautical, revenue-producing use from its present aeronautical use designation. The parcel will be used for construction of a 2-story office building, approximately 19,600 square feet, connected to a 80,100 square foot building, and the potential to add a 30,000 square foot building. The proposed development also includes approximately 289 parking spaces with the flexibility to add 14 spaces for future expansion.

DATES: Comments must be received on or before June 6, 2019.

ADDRESSES: Documents are available for review by appointment at the FAA Detroit Airports District Office, 11677 South Wayne Road, Suite 107, Romulus, Michigan 48174 or the Columbus Regional Airport Authority, Planning and Engineering, John Glenn Columbus International Airport, 4600 International Gateway, Columbus, Ohio 43219. Written comments on the Sponsor's request must be delivered or mailed to: Ms. Katherine Delaney, Community Planner, Detroit Airports District Office, Federal Aviation Administration, 11677 South Wayne Road, Suite 107, Romulus, Michigan 48174. Telephone Number (734) 229-2900; FAX Number (734) 229-2950.

FOR FURTHER INFORMATION CONTACT: Ms. Katherine Delaney, Community Planner, Federal Aviation Administration, Airports District Office, 11677 South Wayne Road, Suite 107, Romulus, Michigan 48174. Telephone Number (734) 229-2900; FAX Number (734) 229-2950.

SUPPLEMENTARY INFORMATION: In accordance with section 47107(h) of title 49, United States Code, this notice is required to be published in the Federal Register 30 days before modifying the land-use assurance that requires the property to be used for an aeronautical purpose.

The parcel is depicted on the Airport Layout Plan (ALP) dated November 17, 2011, and the Exhibit “A” property map. The parcel was acquired with Airport Improvement Program (AIP) Grants: 3-39-0025-01, 3-39-0024-02, and 06-39-0025-04.

No airport landside or airside facilities are presently located on this parcel nor is airport development contemplated in the future. Development of the parcel for airside or landside operations is not practical due to Bridgeway Avenue's location which precludes aeronautical development from being contiguous to the airfield. Relocating the road is cost prohibitive. There are no impacts to the airport by allowing it to waive the requirement to maintain the parcel for aeronautical use.

The sponsor will control use of the parcel through the terms and conditions of the ground lease. The lease will be subordinate to the sponsor's existing grant assurances. This will ensure that all activities contemplated on the parcel will be compatible with FAA requirements and airport operations.

The disposition of proceeds from the lease of airport property will be in accordance with FAA's Policy and Procedures Concerning the Use of Airport Revenue, published in the Federal Register on February 16, 1999 (64 FR 7696).

This notice announces that the FAA is considering the release of the subject airport property at the John Glenn Columbus International Airport, Columbus, Ohio from its obligations to be maintained for aeronautical purposes. Approval does not constitute a commitment by the FAA to financially assist in the change in use of the subject airport property nor a determination of eligibility for grant-in-aid funding from the FAA.

A Categorical Exclusion addressing the proposed development of the parcel was prepared. The Categorical Exclusion was executed by the FAA on June 14, 2018.

Following is a legal description of the subject airport property at the John Glenn Columbus International Airport in Columbus, Ohio:

Situated in the State of Ohio, County of Franklin, City of Columbus, lying in Quarter Township 4, Township 1, Range 17, United States Military Lands, being a part of those tracts conveyed to Columbus Regional Airport Authority by deed of record in Instrument Number 200712310221206, all of that 0.409 acre tract conveyed to Columbus Municipal Airport Authority by deed of record in Original Record 201103F05, and part of that 7.957 acre tract conveyed to Columbus Regional Airport Authority by deed of record in Instrument Number 200812110178154, (all references to the records of the Recorder's Office, Franklin County, Ohio) and being more particularly described as follows: BEGINNING, at the intersection of the westerly right-of-way line of James Road (33′) and northerly right-of-way line of Bridgeway Avenue; Thence North 04°08′55″ East, with the westerly right-of-way line of said James Road (33′), a distance of 453.72 feet to a point in the southerly limited access right of way of Interstate 270; Thence South 85°39′35″ East, across the right-of-way of said James Road (33′), with the southerly limited access right-of-way line of said Interstate 270, with northerly line of said 0.409 acre tract, a distance of 736.99 feet to a point in the northerly line of said Columbus Regional Airport Authority tract, a southeasterly corner of said 0.409 acre tract; Thence 86°16′15″ East, with the southerly limited access right-of-way line of Interstate 270, with the northerly line of said Columbus Regional Airport Authority tract, a distance of 45.76 feet to a point; Thence across said Columbus Regional Airport Authority tract, the following courses and distances: South 03°43′45″ West, a distance of 49.59 feet to a point on a curve; With the arc of the curve to the left, having a central angle of 20°05′15″, a radius of 295.00 feet, an arc length of 103.43 feet, a chord bearing of South 26°47′52″ East and chord distance of 102.90 feet to a point; and South 04°23′39″ West, a distance of 276.72 feet to a point; Thence North 85°36′21″ West, across said Columbus Regional Airport Authority tract, across the right-of-way of said James Road (33′), a distance of 849.90 feet to the POINT OF BEGINNING, containing 8.313 acres, more or less.

Issued in Romulus, Michigan on April 29, 2019.
John L. Mayfield, Jr.
Manager, Detroit Airports District Office FAA, Great Lakes Region.

[FR Doc. 2019-09360 Filed 5-6-19; 8:45 am]

BILLING CODE 4910-13-P